FEDERAL MARITIME COMMISSION

Ocean Transportation Intermediary License Reissuances

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR Part 515.

License No. | Name/Address | Date Reissued
003172NF | The Interport Company, Inc., 2300 E. Higgins, Suite 209A, Elk Grove Village, IL 60007. | November 17, 2006.
016159N | American Pioneer Shipping L.L.C., 80 Morristown Road, Room 273, Bernardsville, NJ 07924. | November 23, 2006.

Sandra L. Kusumoto,
Director, Bureau of Certification and Licensing.

[FR Doc. E6-22292 Filed 12-27-06; 8:45 am]

BILLING CODE 6730-01-P